SOCIAL SECURITY ADMINISTRATION

Agency Information Collection Activities: Proposed Request and Comment Request

The Social Security Administration (SSA) publishes a list of information collection packages requiring clearance by the Office of Management and Budget (OMB) in compliance with Public Law (Pub. L.) 104-13, the Paperwork Reduction Act of 1995, effective October 1, 1995. This notice includes revisions to OMB-approved information collections and extensions (no change) of existing OMB-approved information collections.

SSA is soliciting comments on the accuracy of the agency's burden estimate; the need for the information; its practical utility; ways to enhance its quality, utility, and clarity; and ways to minimize the burden on respondents, including the use of automated collection techniques or other forms of information technology. Mail, e-mail, or fax your comments and recommendations on the information collection(s) to the OMB Desk Officer and the SSA Reports Clearance Officer to the addresses or fax numbers listed below.

(OMB), Office of Management and Budget, Attn: Desk Officer for SSA, Fax: 202-395-6974, e-mail address: OIRA_Submission@omb.eop.gov; (SSA), Social Security Administration, DCBFM, Attn: Reports Clearance Officer, 1333 Annex Building, 6401 Security Blvd., Baltimore, MD 21235, Fax: 410-965-6400, e-mail address: OPLM.RCO@ssa.gov.

I. The information collections listed below are pending at SSA. SSA will submit them to OMB within 60 days from the date of this notice. Therefore, your comments would be most helpful if you submit them to SSA within 60 days from the date of this publication. Individuals can obtain copies of the collection instruments by calling the SSA Reports Clearance Officer at 410-965-0454 or by writing to the e-mail address listed above.

1. Marriage Certification—20 CFR 404.725—0960-0009. SSA uses Form SSA-3 to collect information to determine if the spouse claimant has the necessary relationship to the number holder (i.e., the worker) to qualify for Old Age, Survivors, and Disability Insurance (OASDI) benefits. The respondents are applicants for spouse's OASDI benefits.

Type of Request: Extension of an OMB-approved information collection.

Number of Respondents: 180,000.

Frequency of Response: 1.

Average Burden per Response: 5 minutes.

Estimated Annual Burden: 15,000 hours.

2. Letter to Landlord Requesting Rental Information—20 CFR 416.1130(b)—0960-0454. SSA collects information on Form SSA-L5061 to identify rental subsidy arrangements involving applicants for, and recipients of, Supplemental Security Income (SSI) payments. SSA uses the information to determine an income value for these subsidies, eligibility for payments, and the correct amount payable. The respondents are landlords of SSI claimants.

Type of Request: Extension of an OMB-approved information collection.

Number of Respondents: 49,000.

Frequency of Response: 1.

Average Burden per Response: 10 minutes.

Estimated Annual Burden: 8,167 hours.

3. Marital Relationship Questionnaire—20 CFR 416.1826—0960-0460. SSA collects information on Form SSA-4178 to determine, for SSI purposes, whether unrelated individuals of the opposite sex who live together are holding themselves out to the public as husband and wife. SSA needs this information to determine whether we are making correct payments to SSI couples and individuals. The respondents are applicants for and recipients of SSI payments.

Type of Request: Extension of an OMB-approved information collection.

Number of Respondents: 5,100.

Frequency of Response: 1.

Average Burden per Response: 5 minutes.

Estimated Annual Burden: 425 hours.

4. Report on Individual with Mental Impairment—20 CFR 404.1513 & 416.913—0960-0058. SSA uses Form SSA-824 to obtain medical evidence from medical sources who have treated the claimant for a mental impairment. SSA uses the information collected on this form to establish whether a claimant filing for disability benefits has a mental impairment that meets the statutory definition of disability in the Social Security Act. The respondents are mental impairment treatment facilities.

Type of Request: Extension of an OMB-approved information collection.

Type of respondents | Number of respondents | Frequency of response | Average burden per response | Total annual burden
Private Sector | 25,000 | 1 | 36 | 15,000
State DDSs (State/Local Government) | 25,000 | 1 | 36 | 15,000
Totals | 50,000 |  |  | 30,000

5. Record of Supplemental Security Income Inquiry—20 CFR 416.345—0960-0140. SSA uses the information collected on Form SSA-3462, via telephone or personal interview, to determine potential eligibility for SSI payments and to establish the earliest date of inquiry. The respondents are individuals who inquire about SSI eligibility for themselves or others.

Type of Request: Extension of an OMB-approved information collection.

Number of Respondents: 500,000.

Frequency of Response: 1.

Average Burden per Response: 5 minutes.

Estimated Annual Burden: 41,667 hours.

6. General Request for Social Security Records—eFOIA—20 CFR 402.130—0960-0716. SSA uses the information collected on this electronic request for Social Security records to respond to the public's request for information under the Freedom of Information Act (FOIA). SSA also tracks the number and type of requests, fees charged and payment amounts, and whether SSA responds within the required 20 days. Respondents are members of the public including individuals, institutions, or agencies requesting information/documents under FOIA.

Type of Request: Revision of an OMB-approved information collection.

Number of Respondents: 5,000.

Frequency of Response: 1.

Average Burden per Response: 3 minutes.

Estimated Annual Burden: 250 hours.

II. SSA has submitted the information collections listed below. Your comments on the information collections will be most useful if OMB and SSA receive them within 30 days from the date of this publication. You can request a copy of the information collections by e-mail, OPLM.RCO@ssa.gov, fax 410-965-6400, or by calling the SSA Reports Clearance Officer at 410-965-0454.

1. Supplemental Security Income (SSI)—Quality Review Case Analysis—0960-0133. Section 1631(e)(1)(B) of the Social Security Act provides that eligibility for SSI payments will not be determined solely on the declarations of the applicant. This section further provides that SSA will collect additional information as necessary to assure correct eligibility and payment amount. To comply with the law, SSA conducts periodic quality review case analysis to assess the SSI program and payment accuracy. SSA uses Form SSA-8508 to collect information on operating efficiency, quality of underlying policies, and the effect of incorrect payments. SSA also uses the data to determine a Federal payment accuracy rate, which is a performance measure for the agency's service delivery goals. Respondents are recipients of SSI payments.

Type of Request: Revision of an OMB approved information collection.

Number of Respondents: 4,500.

Frequency of Response: 1.

Average Burden per Response: 60 minutes.

Estimated Annual Burden: 4,500 hours.

2. Ticket to Work and Self-Sufficiency Program—20 CFR 411—0960-0644. The Ticket to Work and Self-Sufficiency Program allows individuals with disabilities who receive Social Security Disability Insurance benefits and SSI payments to work toward decreased dependence on Government cash benefits programs without jeopardizing their benefits during the transition period to employment. Disability payment recipients choose a service provider who will guide them in obtaining, regaining, and maintaining self-supporting employment. 20 CFR 411.140-.730 of the Code of Federal Regulations discusses the regulations governing this program. We show the multiple categories of information collection requirements in these regulations in the chart below. The respondents are individuals entitled to Social Security benefits based on disability, individuals receiving SSI, program managers, employee network (EN) contractors, and State vocational rehabilitation (VR) agencies.

Type of Request: Revision of an OMB approved information collection.

Sections | Section titles | Annual number of responses | Frequency of response | Average burden of response (minutes) | Estimated annual burden (hours)
411.140(d)(3), 411.150(b)(3), 411.325(a) | Individual Work Plans for Non-State EN Tickets | 3,983 | 1 | 240 | 15,932
SSA-1365: 411.140(d)(3), 411.385(a) 411.390 | State VR Agency Ticket Assignments/Reassignments | 25,174 | 1 | 3 | 1,259
411.170(b), 411.385(a), 411.390 | Electronic Data Sharing for State VR Agency's Tickets Under Cost Reimbursement | 35,584 | 1 | 5 | 2,965
411.145, 411.325 | Requesting Ticket Unassignments | 2,532 | 1 | 15 | 633
411.535(a)(1)(iii) | Notifying VR Case Closures | 8,505 | 1 | 5 | 709
411.192(b)&(c) | Tracking Progress—Request to Place Ticket in Inactive Status | 1,000 | 1 | 30 | 500
411.200(b): SSA-1375, Paper Version (Beneficiaries) | Tracking Progress—Request for Certification of Work and Educational Progress (Individuals) | 13,500 | 1 | 15 | 3,375
411.200(b): SSA-1375 Internet Version (State ENs) | Tracking Progress—Request for Certification of Work and Educational Progress (State EN's) | 13,500 | 1 | 8 | 1,800
411.210(b) | Request to Reenter Ticket-Use Status after Not Making Timely Progress | 3,145 | 1 | 30 | 1,573
411.365, 411.505, 411.515 | Selecting a Payment Plan | 118 | 1 | 30 | 59
411.325(d), 411.415 | Reporting Referral Agreement Activity (Private Sector) | 48 | 1 | 480 | 384
411.575 | Requesting EN Payments | 12,420 | 1 | 60 | 12,420
411.325(f) | Periodic Outcomes Reporting | 2,470 | 1 | 120 | 4,940
411.435, 411.615, 411.635 | Dispute Resolutions | 2 | 1 | 120 | 4
Totals |  | 121,981 |  |  | 46,553

3. Youth Transition Process Demonstration Evaluation Data Collection—0960-0687.

Background

The purpose of the Youth Transition Demonstration (YTD) project is to help young people with disabilities make the transition from school to work. While participating in the project, youth can continue to work and/or continue their education because SSA waives certain disability program rules and offers services to youth who are receiving disability benefits or have a high probability of receiving them. We will fully implement YTD projects in 10 sites across the country. As part of the project, we will conduct an evaluation that will produce empirical evidence on the effects of the waivers and project services including educational attainment, employment, earnings, and receipt of benefits by youth with disabilities, but also on the Social Security Trust Fund and Federal income tax revenues. This type of project is authorized by Sections 1110 and 234 of the Social Security Act.

Project Description

Given the importance of estimating YTD effects as accurately as possible, we will evaluate the project using rigorous analytic methods based on randomly assigning youth to a treatment or control group. We will conduct several data collections. These include: (1) Baseline interviews with youth and their parents or guardians prior to random assignment; (2) followup interviews at 12 and 36 months after random assignment; (3) interviews and/or roundtable discussions with local program administrators, program supervisors, and service delivery staff; and (4) focus groups of youths, their parents, and service providers. The respondents are youths with disabilities enrolled in the project; their parents or guardians; program staff; and service providers.

Type of Request: Revision of an existing OMB Clearance.

Data collection year and collection | Number of respondents | Responses per respondent | Average burden per response (hours) | Total response burden (hours)
2008:
Baseline | 2,531 | 1 | 0.55 | 1,392
Informed Consent | 2,531 | 1 | .083 | 210
12 month follow-up | 1,502 | 1 | 0.83 | 1,247
In-depth interviews | 120 | 1 | .42 | 50
Focus group | 60 | 1 | 1.5 | 90
Program staff/service provider | 32 | 1 | 1 | 32
Total 2008 |  | 6776 |  | 3,021

4. Waiver of Supplemental Security Income Payment Continuation—20 CFR 416.1400-416.1422—0960—NEW. An SSI claimant receiving payment during the appeals process has the option of waiving or stopping the payments until a decision is made on their claim. The claimant uses Form SSA-263-U2 to make the request. SSA uses the information on this form as proof that the individual does not want to continue to receive payments until a decision is made on their appeal and that they understand their due process rights. The respondents are SSI recipients.

Type of Request: Existing Information Collection in Use without an OMB Number.

Number of Respondents: 3,000.

Frequency of Response: 1.

Average Burden per Response: 5 minutes.

Estimated Annual Burden: 250 hours.

Dated: August 18, 2008.
Elizabeth A. Davidson,
Reports Clearance Officer, Social Security Administration.

[FR Doc. E8-19510 Filed 8-21-08; 8:45 am]

BILLING CODE 4191-02-P